FEDERAL COMMUNICATIONS COMMISSION

Sunshine Act Meeting; Open Commission Meeting; Wednesday, March 21, 2012

March 14, 2012.

The Federal Communications Commission will hold an Open Meeting on the subjects listed below on Wednesday, March 21, 2012, which is scheduled to commence at 10:30 a.m. in Room TW-C305, at 445 12th Street SW., Washington, DC.

Item Nos. | Bureau | Subject
1 | MEDIA | Title: Revision of the Commission's Program Access Rules; News Corporation and The DIRECTV Group, Inc., Transferors, and Liberty Media Corporation, Transferee, for Authority to Transfer Control (MB Docket No. 07-18) and Applications for Consent to the Assignment and/or Transfer of Control of Licenses, Adelphia Communications Corporation (and subsidiaries, debtors-in-possession), Assignors, to Time Warner Cable Inc. (subsidiaries), Assignees, et al. (MB Docket No. 05-192)
|  | Summary: The Commission will consider a Notice of Proposed Rulemaking exploring whether to retain, sunset, or relax the exclusive contract prohibition of the program access rules and whether to revise the program access rules to better address alleged violations.
2 | MEDIA | Title: Creation of a Low Power Radio Service (MM Docket No. 99-25) and Amendment of Service and Eligibility Rules for FM Broadcast Translator Stations (MB Docket No. 07-172, RM-11338)
|  | Summary: The Commission will consider a Fourth Report and Order and Third Order on Reconsideration to implement a market-specific FM translator processing scheme, adopt application caps to prevent trafficking, and modify policies to expand opportunities to rebroadcast AM stations on FM translators.
3 | MEDIA | Title: Creation of a Low Power Radio Service (MM Docket No. 99-25)
|  | Summary: The Commission will consider a Fifth Report and Order, Fourth Further Notice of Proposed Rulemaking and Fourth Order on Reconsideration regarding proposals to implement the Local Community Radio Act and to strengthen the LPFM service, including second adjacent channel waiver procedures, interference remediation requirements, and modification of eligibility, ownership, and selection standards.
4 | Wireless Tele-Communications | Title: Promoting Interoperability in the 700 MHz Commercial Spectrum and Interoperability of Mobile User Equipment Across Paired Commercial Spectrum Blocks in the 700 MHz Band (RM-11592)
|  | Summary: The Commission will consider a Notice of Proposed Rulemaking concerning the potential for harmful interference to Lower 700 MHz B and C Block operations if the Lower 700 MHz Band were interoperable and whether, if such interference exists, it can be reasonably mitigated. The NPRM also seeks comment on the best course of action should the Commission determine that interoperability would cause limited or no harmful interference to Lower 700 MHz B and C Block licensees, or that such interference can be reasonably mitigated.
5 | Wireless Tele-Communications And International | Title: Service Rules for Advanced Wireless Services in the 2000-2020 MHz and 2180-2200 MHz Bands; Fixed and Mobile Services in the Mobile Satellite Service Bands at 1525-1559 MHz and 1626.5-1660.5 MHz,1610-1626.5 MHz and 2483.5-2500 MHz 2000-2020 MHz and 2180-2200 MHz (ET Docket No. 10-142) and Service Rules for Advanced Wireless Services in the 1915-1920 MHz, 1995-2000 MHz, 2020-2025 MHz and 2175-2180 MHz Bands (WT Docket No. 04-356)
|  | Summary: The Commission will consider a Notice of Proposed Rulemaking and Notice of Inquiry proposing service, technical, assignment, and licensing rules for flexible terrestrial use of spectrum currently assigned to the Mobile Satellite Service (MSS) in the 2 GHz band. And an alternative band plan involving additional spectrum at 1695-1710 MHz that the National Telecommunications and Information Administration (NTIA) has proposed to reallocate from Federal to commercial use.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or Meribeth McCarrick, Office of Media Relations, (202) 418-0500; TTY 1-888-835-5322. Audio/Video coverage of the meeting will be broadcast live with open captioning over the Internet from the FCC Live Web page at www.fcc.gov/live <http://www.fcc.gov/live>.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2012-6734 Filed 3-15-12; 4:15 pm]

BILLING CODE 6712-01-P